DEPARTMENT OF THE INTERIOR

Bureau of Land Management

[LLAZP02000.L54100000.FR0000.LVCLA10A5170.241A; AZA 35235]

Notice of Realty Action: Application for Conveyance of Federally Owned Mineral Interests in Maricopa County, AZ

AGENCY: Bureau of Land Management, Interior.

ACTION: Notice.

SUMMARY: The Bureau of Land Management (BLM) is processing an application under the Federal Land Policy and Management Act to convey the federally owned mineral interests of 111.33 acres located in Maricopa County, Arizona, to the surface owner, Gavilan Peak Estates, LLC. Upon publication of this notice, the BLM is temporarily segregating the federally owned mineral interests in the land covered by the application from all forms of appropriation under the mining and mineral leasing laws for up to 2 years while the BLM processes the application.

DATES: Interested persons may submit written comments to the BLM at the address listed below. Comments must be received no later than October 25, 2012.

ADDRESSES: Bureau of Land Management, Arizona State Office, One North Central Avenue, Suite 800, Phoenix, Arizona 85004. Detailed information concerning this action is available for review at this address.

FOR FURTHER INFORMATION CONTACT: Vivian Titus, Senior Land Law Examiner, at 602-417-9598. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The location of the federally owned mineral interest segregated by this notice is intended to be identical in location as the privately owned surface interest of the applicant, as described in the applicant's deeds recorded on June 21, 2006, at the Maricopa County Recorder's office under Recordation Numbers 20060834935 and 20060834944. The lands referred to in this notice consist of four individual parcels, described in the two deeds mentioned above, and are described as follows:

Gila and Salt River Base and Meridian

Parcel 1

The Southwest Quarter of the Southeast Quarter, the South Half of the Northwest Quarter of the Southeast Quarter, the South Half of the Northeast Quarter of the Southwest Quarter, and the East Half of the Southeast Quarter of the Southwest Quarter;

Except the East 528 feet of the East Half of the Southeast Quarter of the Southwest, all in Section 35, Township 7 North, Range 2 East, Gila and Salt River Base and Meridian, Maricopa, Arizona.

Parcel 2

That part of the Southeast Quarter of the Southeast Quarter of Section 35, Township 7 North, Range 2 East, Gila and Salt River Base and Meridian, Maricopa County, Arizona, described as follows:

Beginning at a point 658.00 feet West of the Brass Cap and the Southeast corner of Section 35, Township 7 North, Range 2 East; Thence North 754.85 feet to a set point; Thence West 577.00 feet to a set point; Thence South 755.26 feet to a set point; Thence East 577.00 feet to a point of beginning; Except any part thereof lying within the following described parcel: Commencing at the East Quarter corner of said Section 35; Thence South along the East line of said Section 35, a distance of 785 feet; Thence West 675 feet to the True Point of Beginning; Thence South Parallel to and 675 feet West of the East line of said Section 35, a distance of 1100 feet; Thence West 570 feet; Thence North 1100 feet; Thence East 570 feet to the True Point of Beginning.

Parcel 3

That part of the East Half of the Southeast Quarter of Section 35, Township 7 North, Range 2 East of the Gila and Salt River Base and Meridian, Maricopa County, Arizona, lying West of the West lines of those certain parcels described in Docket 11938, Page 261; and in Docket 14071, Page 774; and lying South of the North line of said parcel described in Docket 14071, Page 774; extended westerly.

Parcel 4

A part of the Southeast Quarter of Section 35, Township 7 North, Range 2 East of the Gila and Salt River Base and Meridian, Maricopa County, Arizona, more particularly described as follows: Commencing at the East Quarter corner of said Section 35; Thence South along the East line of said Section 35, a distance of 785 feet; Thence West 675 feet to the Point of Beginning; Thence South parallel to and 675 feet West of the East line of said Section 35, a distance of 1,100 feet; Thence West 570 feet; Thence North 1,100 feet; Thence East 570 feet to the Point of Beginning.

The areas described aggregates approximately 111.33 acres in Maricopa County, Arizona.

Under certain conditions, Section 209(b) of the Federal Land Policy and Management Act of October 21, 1976, 43 U.S.C. 1719, authorizes the sale and conveyance of the federally owned mineral interests in land when the surface estate is not federally owned. The objective is to allow consolidation of the surface and mineral interests when either one of the following conditions exist: (1) There are no known mineral values in the land; or (2) Where continued Federal ownership of the mineral interests interferes with or precludes appropriate non-mineral development and such development is a more beneficial use of the land than mineral development.

An application was filed for the sale and conveyance of the federally owned mineral interests in the above-described parcels of land. Subject to valid existing rights, on September 10, 2012 the federally owned mineral interests in the lands described above are hereby segregated from all forms of appropriation under the general mining and mineral leasing laws, while the application is being processed to determine if either one of the two specified conditions exists and, if so, to otherwise comply with the procedural requirements of 43 CFR part 2720. The segregative effect shall terminate upon: (1) Issuance of a patent or other document of conveyance as to such mineral interests; (2) Final rejection of the application; or (3) September 10, 2014, whichever occurs first.

Comments: Your comments are invited. Please submit all comments in writing to Vivian Titus at the address listed above. Before including your address, phone number, email address, or other personal identifying information in your comment, you should be aware that your entire comment—including your personal identifying information—may be made available to the public at any time. While you can ask us in your comment to withhold your personal identifying information from public review, we cannot guarantee that we will be able to do so.

Authority: 43 CFR 2720.1-1(b).

Julie A. Decker,
Deputy State Director, Resources.

[FR Doc. 2012-22220 Filed 9-7-12; 8:45 am]

BILLING CODE 4310-32-P